NATIONAL SCIENCE FOUNDATION

Advisory Committee for Engineering; Notice of Meeting

In accordance with the Federal Advisory Committee Act (Pub. L. 92-463, as amended), the National Science Foundation announces the following meeting:

Name: Advisory Committee for Engineering #1170.

Date/Time: October 19, 2016; 12:00 p.m. to 6:15 p.m., October 20, 2016; 8:30 a.m. to 12:45 p.m.

Place: National Science Foundation, 4201 Wilson Boulevard, Room 375, Arlington, Virginia 22230.

Type of Meeting: OPEN.

Contact Person: Evette Rollins, National Science Foundation, 4201 Wilson Boulevard, Suite 505, Arlington, Virginia 22230; 703-292-8300.

Purpose of Meeting: To provide advice, recommendations and counsel on major goals and policies pertaining to engineering programs and activities.

Agenda

Wednesday, October 19, 2016

• Directorate for Engineering Report

• NSF Big Ideas

• Perspective from the Director's Office

• Future of Center-scale Multidisciplinary Engineering Research: Study Update

• Division of Engineering Education and Centers (EEC) Overview

• EEC Committee of Visitors Report

Thursday, October 20, 2016

• Small Business Innovation Research Subcommittee Report

• Division of Industrial Innovation and Partnerships (IIP) Overview

• IIP Committee of Visitors Report

• NSF INCLUDES/CEOSE Workshop Report

• NSF Strategic Planning Process

• Roundtable on Big Ideas and Strategic Recommendations for ENG

Dated: September 20, 2016.
Crystal Robinson,
Committee Management Officer.

[FR Doc. 2016-22917 Filed 9-22-16; 8:45 am]

BILLING CODE 7555-01-P